DEPARTMENT OF LABOR

Mine Safety and Health Administration

Petition for Modification of Application of Existing Mandatory Safety Standards

AGENCY: Mine Safety and Health Administration, Labor.

ACTION: Notice.

SUMMARY: This notice is a summary of a petition for modification submitted to the Mine Safety and Health Administration (MSHA) by Grefco Minerals, LLC.

DATES: All comments on the petition must be received by MSHA's Office of Standards, Regulations, and Variances on or before April 2, 2025.

ADDRESSES: You may submit comments identified by Docket No. MSHA-2025-0023 by any of the following methods:

1. Federal eRulemaking Portal: https://www.regulations.gov. Follow the instructions for submitting comments for MSHA-2025-0023.

2. Fax: 202-693-9441.

3. Email: petitioncomments@dol.gov.

4. Regular Mail or Hand Delivery: MSHA, Office of Standards, Regulations, and Variances, 200 Constitution Ave. NW, Washington, DC 20210.

Attention: S. Aromie Noe, Director, Office of Standards, Regulations, and Variances. Persons delivering documents are required to check in at the receptionist's desk. Individuals may inspect copies of the petition and comments during normal business hours at the address listed above. Before visiting MSHA in person, call 202-693-9455 to make an appointment.

FOR FURTHER INFORMATION CONTACT: S. Aromie Noe, Office of Standards, Regulations, and Variances at 202-693-9440 (voice), Petitionsformodification@dol.gov (email), or 202-693-9441 (fax). [These are not toll-free numbers.]

SUPPLEMENTARY INFORMATION: Section 101(c) of the Federal Mine Safety and Health Act of 1977 and title 30 of the Code of Federal Regulations (CFR) part 44 govern the application, processing, and disposition of petitions for modification.

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. The application of such standard to such mine will result in a diminution of safety to the miners in such mine.

In addition, sections 44.10 and 44.11 of 30 CFR establish the requirements for filing petitions for modification.

II. Petition for Modification

Docket Number: M-2025-002-M.

Petitioner: Grefco Minerals, LLC, 36904 Summit Lake Road, Burney, CA 96013.

Mine: Grefco Mine & Mill, MSHA ID No. 26-00125, located in Nye County, Nevada.

Regulation Affected: 30 CFR 56.20001, Intoxicating beverages and narcotics.

Modification Request: The petitioner requests a modification of 30 CFR 56.20001 to permit alcohol stow-fermented from starch bearing an alcohol content of less than 10 percent alcohol by volume (“ABV”), commonly called “beer”, to be at the Grefco plant for the purpose of use in chemical testing that is part of product quality control and research.

The petitioner states that:

(a) Grefco requests that it be permitted to:

(1) Store containers of beer at the plant in secure locations, with restricted access;

(2) Use beer for purposes of quality control testing, statistical method control testing, and research testing; and

(3) Store open containers of beer that may be used during more than one testing event at the Grefco Mine & Mill, in secure locations, with restricted access.

(b) Grefco does not seek modification of any other part of the standard. The consumption of any intoxicating beverages and narcotics (including beer) shall be prohibited, and persons under the influence of alcohol or narcotics (including beer) shall be prohibited, and persons under the influence of alcohol or narcotics shall not be permitted on site.

(c) The purpose of 30 CFR 56.20001 is to protect miners by ensuring that miners do not have access to intoxicating beverages and narcotics at mines, and that miners are not under the influence of intoxicating beverages and narcotics while on the job. Grefco agrees with the purpose of the standard. The use of intoxicating beverages is not tolerated at Grefco. However, for commercial purposes, Grefco requires that containers of beer be stored at Grefco so that Grefco may conduct appropriate quality control and research testing.

(d) Grefco believes that the proposed modifications may be accomplished in a manner that ensures miners do not have access to the beer that Grefco will use for testing purposes.

(e) The Grefco Mine and Mill is a surface diatomaceous earth (“DE”) mine and processing facility. Mined DE is processed by Grefco to create finished DE products (“the marketable products”). One of the commercial applications of the marketable products is a filtration agent utilized during the brewing process for beer. The marketable products are integrated onto a fine mesh screen, with other ingredients, thereby creating a “filter cake.” At the end of the brewing process, following fermentation, which results in the creation of the alcohol-containing liquid that is called “beer”, the beer is passed through the filter cake to remove undesirable containments. This results in higher clarity of the beer, which is commercially desirable.

(f) Grefco is filing this petition because 30 CFR 56.20001 prohibits intoxicating beverages on or around mines. Grefco's mining operations require that containers of beer, less than l0 percent ABV, be located at the Grefco plant in order to conduct quality control testing of the marketable products, and to perform research testing to ensure that the marketable products are suitable for use in beer brewing. Beer industry customers are at the core of Grefco's business.

(g) Although DE can be an excellent filtration aid in the production of beer, it also contains naturally occurring iron, which is undesirable in beer production. If the beer absorbs too much iron, the beer will develop a bitter taste, which is not commercially desirable. Soluble iron in beer also has a deleterious effect on beer stability, which is also not commercially desirable. Accordingly, one of the most critical properties of the marketable products is its beer-soluble iron (“BSI”) content.

(h) In order to ensure that the marketable products meet the BSI and other applicable specifications, Grefco must engage in testing on-site at the Grefco plant to identify the BSI content of the marketable products as they are processed. Specifications for BSI in the marketable products are measured at the parts per million level. Grefco warrants maximum BSI content in marketable products sold to the beer industry. In order to (1) adequately control the production of marketable products, and (2) release marketable products within customers' specifications, it is essential to conduct in-process, finished product and research testing of the marketing products. The number of actual BSI tests conducted daily at the Grefco plant can range from five to thirty per day. This testing methodology conforms to that recommended by the American Society of Brewing Chemists.

(i) Because this on-site testing and research activity requires that beer be stored and used at the Grefco plant, which is prohibited by 30 CFR 56.20001 there is a need for this petition.

(j) The alternate method proposed by the petitioner will at all times guarantee no less than the same measure of protection under the mandatory standard.

The petitioner proposes the following alternative method:

(a) Beer used in lab procedures shall be ordered by a lab technician or other responsible designee who will arrange for the supply of beer to be purchased and delivered to the appropriate person/department for receipt.

(b) When the beer is received, the amount shall be recorded on a log or other equivalent form.

(c) The bottles shall be initialed or marked in some way across the label with permanent marker, prior to storage, to easily identify containers purchased for testing purposes.

(d) Beer shall be stored in a steel locking cabinet. The key shall be kept by the lab technician or other designee(s). A copy of the key to the locking steel cabinet shall be kept by the Quality Manager or other responsible person.

(e) A record of use shall be kept on the log or equivalent form to include the amount, date used, and initials of the person acquiring the product for testing purposes.

(f) When testing has concluded the remaining degassed beer shall be disposed of appropriately by dumping down the drain or other disposal means.

(g) Empty containers shall be kept in the locking cabinet or designated receptacle until they can be disposed of properly.

(t) The miners at Grefco Minerals, LLC, Grefco Mine & Mill, are not represented by a labor organization; however, a copy of this petition has been provided to the representative of the miners at the mine January 10, 2025.

The petitioner asserts that the alternative method will guarantee no less than the same measure of protection afforded the miners under the mandatory standard.

Song-ae Aromie Noe,
Director, Office of Standards, Regulations, and Variances.

[FR Doc. 2025-03389 Filed 2-28-25; 8:45 am]

BILLING CODE 4520-43-P